DEPARTMENT OF THE INTERIOR

Bureau of Land Management

[CO-910-06-7122-PN-C002]

Notice of Proposed Amended Supplementary Rules for Public Land Administered by the Bureau of Land Management in Colorado Relating to the Unlawful Use of Alcohol by Underage Persons, Driving Under the Influence of Alcohol and/or Drugs, and Firearms and Drug Paraphernalia Use and Possession on Public Land

AGENCY: Bureau of Land Management, Interior.

ACTION: Proposed amended supplementary rules for public land within the State of Colorado.

SUMMARY: The Bureau of Land Management (BLM) is proposing to amend the supplementary rules established in 2003 (68 FR 1858, January 14, 2003) for the public lands within the State of Colorado. The rules relate to the illegal use of alcohol and drugs on the public lands. The amended supplementary rules are necessary to protect natural resources and the health and safety of public land users. These amended supplementary rules will allow BLM personnel to continue enforcement of existing public land regulations pertaining to alcohol and drug use in a manner consistent with current state laws as contained in the Colorado Revised Statutes.

DATES: Comments on the proposed supplementary rules must be received or postmarked by December 11, 2006 to be assured consideration. In developing final supplementary rules, BLM may not consider comments postmarked or delivered in person or by electronic mail after this date.

ADDRESSES: You may submit comments by the following methods:

Mail or hand-delivery: Bureau of Land Management, Colorado State Office, 2850 Youngfield Street, Lakewood, Colorado 80215.

Internet e-mail: http://www.co_proposed_rule@blm.gov (Include Attn: Dorothy Bensusan in your subject line).

Federal eRulemaking Portal: http://www.regulations.gov.

FOR FURTHER INFORMATION CONTACT: Dorothy Bensusan, Bureau of Land Management, 2850 Youngfield Street, Lakewood, Colorado 80215, telephone (303) 239-3893. Persons who use a telecommunications device for the deaf (TDD) may contact this individual by calling the Federal Information Relay Service (FIRS) at (800) 877-8339, 24 hours a day, 7 days a week.

SUPPLEMENTARY INFORMATION:

I. Public Comment Procedures

II. Background

III. Procedural Matters

I. Public Comment Procedures

Electronic Access and Filing Address

You may also comment via the Internet to http://www.co_proposed_rule@blm.gov. Please also include your name and return address in your Internet message, and include “attn: Dorothy Bensusan.”

You also may comment via the Internet by accessing the Federal eRulemaking Portal at http://www.regulations.gov and following the instructions there.

Written Comments

Written comments on the proposed amended supplementary rules should be specific, confined to issues pertinent to the proposed amendments, and should explain the reason for any recommended change. Where possible, comments should reference the specific section or paragraph of the proposal which the comment is addressing. BLM may not necessarily consider or include in the Administrative Record for the final rule comments that BLM receives after the close of the comment period (see DATES), unless they are postmarked or electronically dated before the deadline, or comments delivered to an address other than those listed above (see ADDRESSES).

Comments, including names, street addresses, and other contact information of respondents, will be available for public review at 2850 Youngfield Street, Lakewood, CO 80215, during regular business hours (7:45 a.m. to 3:45 p.m.), Monday through Friday, except Federal holidays. Individual respondents may request confidentiality. If you wish to request that BLM consider withholding your name, street address, and other contact information (such as: Internet address FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

The BLM, Colorado, published final supplementary rules in 2003 that prohibited certain activities related to drug and alcohol use on public lands in the state. Since that publication, state legislation has been passed that is more restrictive in several of these areas, and as a result the existing supplemental regulations are no longer in concurrence with state law. These amended supplementary rules will correct this, and further promote consistency between the BLM and other agencies including Colorado Division of Wildlife, Colorado State Parks, Colorado State Patrol, and various County Sheriff Offices where working relationships and partnerships in public land management exist.

In keeping with the BLM's performance goal of reducing threats to public health, safety, and property, these amended supplementary rules are necessary to protect natural resources and allow for safe public recreation and public health; to reduce the potential for damage to the environment; and to enhance the safety of visitors and neighboring residents. Alcohol-related offenses are a growing problem on the public lands. Unlawful consumption of alcohol and drugs poses a significant health and safety hazard to all users. Operation of motor vehicles while under the influence of alcohol or drugs can result in the destruction of natural resources and property, and/or serious physical injury or death. Of special concern is the use of firearms by persons under the influence of alcohol or drugs, or in violation of state law. Vandalism to public land resources as a result of firearm use, and the clear risks to public safety, demonstrate the need for greater regulation of these activities. Possession of drug paraphernalia has frequently been linked to other illegal use of controlled substances, including cultivation, manufacture, or possession for distribution. The BLM, in keeping with the National Drug Control policy, intends to continue efforts towards the reduction of illegal use of controlled substances on public lands. These amended supplementary rules will provide an avenue for consistent application and enforcement of alcohol and drug regulations on public lands, further enhancing public safety by all public land users.

III. Procedural Matters

Executive Order 12866, Regulatory Planning and Review

These proposed amended supplementary rules are not a significant regulatory action and are not subject to review by the Office of Management and Budget under Executive Order 12866. These amended rules will not have an effect of $100 million or more on the economy. They will not adversely affect, in a material way, the economy, productivity, competition, jobs, the environment, public health or safety, or state, local, or Tribal governments or communities. These proposed supplementary rules will not create a serious inconsistency or otherwise interfere with an action taken or planned by another agency. The amended supplementary rules do not alter the budgetary effects of entitlements, grants, user fees, or loan programs or the right or obligations of their recipients; nor do they raise novel legal or policy issues. The amended supplementary rules would merely revise the existing supplementary rules for greater consistency with the Colorado Revised Statutes, as applied to public land management. They prohibit unlawful personal behavior on public lands in order to protect public health and safety, and natural resources.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules in the SUPPLEMENTARY INFORMATION section of this preamble helpful to your understanding of the proposed supplementary rules? How could this description be more helpful in making the proposed supplementary rules easier to understand?

Please send any comments you have on the clarity of the supplementary rules to the address specified in the ADDRESSES section.

National Environmental Policy Act

BLM has prepared an environmental assessment (EA) and has found that the proposed supplementary rules would not constitute a major Federal action significantly affecting the quality of the human environment under section 102(2)(C) of the Environmental Protection Act of 1969 (NEPA), 42 U.S.C. 4332(2)(C). The supplementary rules will enable BLM law enforcement personnel to cite persons for unlawful possession/use of alcohol or drugs on public lands, in order to protect public health, safety, and the environment. BLM has placed the EA and the Finding of No Significant Impact (FONSI) on file in the BLM Administrative Record at the address specified in the ADDRESSES section. BLM invites the public to review these documents and suggests that anyone wishing to submit comments in response to the EA and FONSI do so in accordance with the Written Comments section, above.

Regulatory Flexibility Act

Congress enacted the Regulatory Flexibility Act of 1980, as amended, 5 U.S.C. 601-612, (RFA) to ensure that Government regulations do not unnecessarily or disproportionately burden small entities. The RFA requires a regulatory flexibility analysis if a rule would have a significant economic impact, either detrimental or beneficial, on a substantial number of small entities. The proposed supplementary rules do not pertain specifically to commercial or governmental entities of any size, but contain rules to protect the health and safety of individuals, property, and resources on the public lands. Therefore, BLM has determined under the RFA that these proposed supplementary rules would not have a significant economic impact on a substantial number of small entities.

Small Business Regulatory Enforcement Fairness Act (SBREFA)

These supplementary rules do not constitute a major rule under 5 U.S.C. 804(2). Again, the supplementary rules pertain only to individuals who may wish to use alcohol or drugs on the public lands. In this respect, the regulation of such use is necessary to protect the public lands and facilities and those, including small business concessionaires and outfitters, who use them. The supplementary rules have no effect on business, commercial, or industrial use of the public lands.

Unfunded Mandates Reform Act

These proposed supplementary rules do not impose an unfunded mandate on state, local, or Tribal governments or the private sector of more than $100 million per year; nor do these supplementary rules have a significant or unique effect on state, local, or Tribal governments or the private sector. The supplementary rules do not require anything of state, local, or Tribal governments. Therefore, BLM is not required to prepare a statement containing the information required by the Unfunded Mandates Reform Act (2 U.S.C. 1531 et seq.)

Executive Order 12630, Governmental Actions and Interference With Constitutionally Protected Property Rights (Takings)

The proposed supplementary rules do not represent a government action capable of interfering with constitutionally protected property rights. The supplementary rules do not address property rights in any form, and do not cause the impairment of anyone's property rights. Therefore, the Department of the Interior has determined that the proposed supplementary rules would not cause a taking of private property or require further discussion of takings implications under this Executive Order.

Executive Order 13132, Federalism

The proposed supplementary rules will not have a substantial direct effect on the states, on the relationship between the national government and the states, or on the distribution of power and responsibilities among the various levels of government. The supplementary rules apply in only one state, Colorado, and do not address jurisdictional issues involving the Colorado State government. Therefore, in accordance with Executive Order 13132, BLM has determined that these proposed supplementary rules do not have sufficient Federalism implications to warrant preparation of a Federalism Assessment.

Executive Order 12988, Civil Justice Reform

Under Executive Order 12988, Colorado State Office of BLM has determined that these proposed supplementary rules would not unduly burden the judicial system and that they meet the requirements of sections 3(a) and 3(b)(2) of the Order. They merely update the existing supplementary rules to conform with changed state laws.

Executive Order 13175, Consultation and Coordination With Indian Tribal Governments

In accordance with E.O. 13175, we have found that these proposed supplementary rules do not include policies that have Tribal implications. Since the rules do not change BLM policy and do not involve Indian reservation lands or resources, we have determined that the government-to-government relationships should remain unaffected. The supplementary rules only prohibit the illegal use of alcoholic beverages and controlled substances, and regulate the use of firearms, on public lands, in conformance with state law.

Executive Order 13211, Actions Concerning Regulations That Significantly Affect Energy Supply, Distribution, or Use

These proposed supplementary rules do not comprise a significant energy action. The rules will not have an adverse effect on energy supplies, production, or consumption. They only address use of alcoholic beverages, drugs, and firearms on public lands, and have no conceivable connection with energy policy.

Paperwork Reduction Act

These proposed supplementary rules do not contain information collection requirements that the Office of Management and Budget must approve under the Paperwork Reduction Act of 1995 (44 U.S.C. 3501 et seq.).

Author

The principal author of these proposed supplementary rules is State Staff Ranger Dorothy Bensusan, Colorado State Office, Bureau of Land Management.

For the reasons stated in the Preamble, and under the authority of 43 CFR 8365.1-6, the Colorado State Director, Bureau of Land Management, proposes supplementary rules for public lands in Colorado, to read as follows:

Supplementary Rules on Public Lands in Colorado

A. You must not violate any state laws relating to the purchase, possession, use, or consumption of alcohol.

B. You must not operate a motor vehicle while under the influence of alcohol, in violation of any state law.

C. You must not possess any drug paraphernalia, in violation of any state law.

D. You must not possess or discharge a firearm or explosive device in violation of any state law.

E. Penalties. Under section 303(a) of the Federal Land Policy and Management Act of 1976 (43 U.S.C. 1733(a) and 43 CFR 8360.0-7), any person who violates any of these supplementary rules on public lands may be tried before a United States Magistrate and fined no more than $1,000 or imprisoned for no more than 12 months, or both. Such violations may also be subject to enhanced fines provided for by 18 U.S.C. 3571.

Sally Wisely,
Colorado State Director, Bureau of Land Management.

[FR Doc. E6-16709 Filed 10-10-06; 8:45 am]

BILLING CODE 4310-JB-P